DEPARTMENT OF TRANSPORTATION

Federal Aviation Administration

Notice of Intent To Release Certain Properties From All Terms, Conditions, Reservations and Restrictions of a Quitclaim Deed Agreement Between City of Tallahassee and the Federal Aviation Administration for the Tallahassee International Airport, Tallahassee, FL

AGENCY: Federal Aviation Administration (FAA), DOT.

ACTION: Request for public comment.

SUMMARY: The FAA hereby provides notice of intent to release certain airport properties 44.66 acres at the Tallahassee International Airport, Tallahassee, FL from the conditions, reservations, and restrictions as contained in a Quitclaim Deed agreement between the FAA and the City of Tallahassee, dated March 14, 1990. The release of property will allow the City of Tallahassee to dispose of the property for non-aeronautical purposes. The City of Tallahassee requests the release of a 44.66 acre tract located along Capital Circle SW in Tallahassee, Florida to facilitate the widening of State Road 263 for municipal development. This capital improvement project is funded by the Florida Department of Transportation. The parcel is currently designated as aeronautical property. The property will be released of its federal obligations given the land is no longer required by The City of Tallahassee. The Fair Market Value (FMV) of this parcel has been determined to be $2,020,050.00.

Documents reflecting the Sponsor's request are available, by appointment only, for inspection at the Tallahassee International Airport and the FAA Airports District Office.

SUPPLEMENTARY INFORMATION:

Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before July 1, 2021.

ADDRESSES: Documents are available for review at the Tallahassee International Airport, 3300 Capital Circle SW, Suite One, Tallahassee, FL 32310-8732 and the FAA Airports District Office, 8427 SouthPark Circle, Suite 524, Orlando, FL 32819-9058. Written comments on the Sponsor's request must be delivered or mailed to: Stephen Wilson, Program Manager, Orlando Airports District Office, 8427 South Park Circle, Suite 524, Orlando, FL 32819-9058.

In addition, a copy of any comments submitted to the FAA must be mailed or delivered to Mr. Eric Houge, Airport Engineer, Tallahassee International Airport, 3300 Capital Circle SW, Suite One, Tallahassee, FL 32310-8732.

FOR FURTHER INFORMATION CONTACT: Stephen Wilson, Program Manager, (407) 487-7229, Orlando Airports District Office, 8427 SouthPark Circle, Suite 524, Orlando, FL 32819-9058.

Issued in Orlando, FL on May 26, 2021.
Bartholomew Vernace,
Manager, Orlando Airports District Office, Southern Region.

Revision Date 11/22/00.

[FR Doc. 2021-11435 Filed 5-28-21; 8:45 am]

BILLING CODE 4910-13-P